DEPARTMENT OF TRANSPORTATION

Office of the Secretary

Aviation Proceedings, Agreements Filed the Week Ending January 17, 2003

The following Agreements were filed with the Department of Transportation under the provisions of 49 U.S.C. 412 and 414. Answers may be filed within 21 days after the filing of the application.

Docket Number: OST-2003-14260.

Date Filed: January 14, 2003.

Parties: Members of the International Air Transport Association.

Subject: CTC COMP 0438 dated 14 January 2003. Mail Vote 262—Resolution 035. Unethical Disclosure of Information (New). Intended effective date: 1 April 2003.

Docket Number: OST-2003-14298.

Date Filed: January 16, 2003.

Parties: Members of the International Air Transport Association.

Subject:

PTC COMP 1000 dated 17 January 2003.

Mail Vote 263—Resolution 011a (Amending).

Mileage Manual Non-TC Member/Non-IATA Carrier Sectors.

Intended effective date: 1 February 2003 for implementation, 1 April 2003.

Dorothy Y. Beard,
Chief, Docket Operations and Media Management, Federal Register Liaison.

[FR Doc. 03-1870 Filed 1-27-03; 8:45 am]

BILLING CODE 4910-62-P